DEPARTMENT OF STATE

[Public Notice 6653]

Notice of Request for Public Comment and Submission to OMB of Proposed Collection of Information

Title: 30-Day Notice of Proposed Information Collection: DS-4096, Reconstruction and Stabilization; Civilian Response Corps Database In-Processing Form, OMB Control Number 1405-0168.

ACTION: Notice of request for public comment and submission to OMB of proposed collection of information.

SUMMARY: The Department of State has submitted the following information collection request to the Office of Management and Budget (OMB) for approval in accordance with the Paperwork Reduction Act of 1995.

• Title of Information Collection: Civilian Response Corps Database In-Processing Form.

• OMB Control Number: 1405-0168.

• Type of Request: Revised Collection.

• Originating Office: Office of the Coordinator for Reconstruction & Stabilization, S/CRS.

• Form Numbers: DS-4096.

• Respondents: Individuals who are members of or apply to one or more of the three components of the Civilian Response Corps (Active, Standby, and Reserves).

• Estimated Number of Respondents: 2,000 per year.

• Estimated Number of Responses: 2,000 per year.

• Average Hours per Response: 1 hour.

• Total Estimated Burden: 2,000 hours.

• Frequency: On occasion.

• Obligation to Respond: Voluntary although necessary to receive benefits, to be deployable, and as a condition for new or continued employment in the Civilian Response Corps.

DATES: Submit comments to the Office of Management and Budget (OMB) for up to 30 days from June 5, 2009.

ADDRESSES: Direct comments and questions to Katherine Astrich, the Department of State Desk Officer in the Office of Information and Regulatory Affairs at the Office of Management and Budget (OMB), who may be reached at 202-395-4718. You may submit comments by any of the following methods:

• E-mail: kastrich@omb.eop.gov. You must include the DS form number, information collection title, and OMB control number in the subject line of your message.

• Mail (paper, disk, or CD-ROM submissions): Office of Information and Regulatory Affairs, Office of Management and Budget, 725 17th Street, NW., Washington, DC 20503.

• Fax: 202-395-6974.

FOR FURTHER INFORMATION CONTACT: You may obtain copies of the proposed information collection and supporting documents from Melanne Civic, who may be reached at CivicMa@state.gov.

SUPPLEMENTARY INFORMATION:

We are soliciting public comments to permit the Department to:

• Evaluate whether the proposed information collection is necessary to properly perform our functions.

• Evaluate the accuracy of our estimate of the burden of the proposed collection, including the validity of the methodology and assumptions used.

• Enhance the quality, utility, and clarity of the information to be collected.

• Minimize the reporting burden on those who are to respond.

Abstract of proposed collection: The information collected is an important part of the Department's responsibility to coordinate U.S. Government planning; institutionalize U.S. Reconstruction and Stabilization (R&S) capacity; and help stabilize and reconstruct societies in transition from conflict or civil strife so they can reach a sustainable path toward peace, democracy, and a market economy. The information gathered will be used to identify Civilian Response Corps members who are available to participate in CRC missions.

Methodology: Presently respondents will complete a paper version of the DS-4096. Current planning is underway so that within two years respondents will be able to complete and submit the form electronically via the Web site (http://www.crs.state.gov).

Dated: May 26, 2009.
Jonathan Benton,
Acting Deputy Coordinator and Director of Civilian Response Operations, Office of the Coordinator for Reconstruction & Stabilization, Department of State.

[FR Doc. E9-13158 Filed 6-4-09; 8:45 am]

BILLING CODE 4710-10-P